DEPARTMENT OF HEALTH AND HUMAN SERVICES

Administration for Children and Families

Submission for Office of Management and Budget Review; Objective Work Plan/On-going Progress Report (Office of Management and Budget #0970-0452)

AGENCY: Administration for Native Americans, Administration for Children and Families, United States Department of Health and Human Services.

ACTION: Request for public comment.

SUMMARY: The Administration for Children and Families' (ACF) Administration for Native Americans (ANA) is requesting a 3-year extension to the Ongoing Progress Report (OPR) and the Objective Work Plan (OWP) (Office of Management and Budget (OMB) #0970-0452, expiration September 30, 2026). Changes are proposed only to the report.

DATES: Comments due February 18, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The information in the OPR is collected on a semi-annual basis to monitor the performance of grantees and better gauge grantee progress.

The OPR information collection is conducted in accordance with Sec. 811 [42 U.S.C. 2992] of the Native American Programs Act and will allow ANA to report quantifiable results across all program areas. It also provides grantees with parameters for reporting their progress and helps ANA better monitor and determine the effectiveness of their projects.

The OWP information collection is conducted in accordance with 42 U.S.C. of the Native American Programs Act of 1972, as amended. This collection is necessary to evaluate applications for financial assistance and determine the relative merits of the projects for which such assistance is requested, as set forth in Section 806 [42 U.S.C. 2991-d 1](a)(1).

The report was revised based on a review by ANA and feedback from grantees, which identified some data elements that could be eliminated and areas that could be clarified.

Respondents: Federally and state recognized tribes, Native Pacific Islanders, Tribal Colleges and Universities, native non-profits, and consortia.

Annual Burden Estimates
Instrument | Total number of respondents | Total number of responses per respondent | Average burden hours per response | Total burden hours | Annual burden hours
Objective Work Plan | 300 | 1 | 3 | 900 | 300
Ongoing Progress Report | 200 | 6 | 1 | 1,200 | 400

Estimated Total Annual Burden Hours: 700.

Authority: Section 806 [42 U.S.C. 2991d-1](a)(1) and Section 811 [42 U.S.C. 2992].

Mary C. Jones,
ACF/OPRE Certifying Officer.

[FR Doc. 2025-01223 Filed 1-16-25; 8:45 am]

BILLING CODE 4184-34-P